FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning the use of the Emergency Management Institute Resident Course Evaluation Form, which is used to identify problems with course materials, evaluate the quality of the course delivery, facilities and instructors. This notice corrects the Federal Register notice published June 14, 2002, to provide a 60-day comment period beginning the date of this notice. In addition, FEMA will not be requesting approval of this information collection under the emergency processing procedures in the Office of Management and Budget regulation 5 CFR 1320.13, but will follow the normal clearance procedures.

SUPPLEMENTARY INFORMATION: The Emergency Management Institute (EMI) develops courses and administers resident and nonresident training programs in areas such as natural hazards, technical hazards, instructional methodology, professional development, leadership, exercise design and evaluation, information technology, public information, integrated emergency management, and train-the-trainer. A significant portion of the training is conducted by State emergency management agencies under cooperative agreements with FEMA.

In order to meet current information needs of EMI staff and management, the EMI uses this course evaluation form to identify problems with course materials, delivery, facilities, and instructors. This is a resident evaluation form. EMI staff will use the information to monitor and recommend changes in course materials, student selection criteria, training experience, and classroom environment. Reports will be generated and distributed to EMI management and staff. Without the information it will be difficult to determine the need for improvements and the degree of student satisfaction with each course. The respondents are students attending EMI resident courses. The evaluation form will be administered at the end of the course and will take no more than 10 minutes to complete. Contractors will scan the evaluation forms and generate the data reports using a computer program developed by a FEMA program analyst contractor. Evaluation forms are destroyed in accordance with FEMA's records retention schedule.

Collection of Information

Title: Emergency Management Institute Resident Course Evaluation Form.

Type of Information Collection: Reinstatement, without change, of a previously approved collection for which approval has expired.

OMB Number: 3067-0237.

Form Number(s): FEMA Form 95-41.

Abstract: Students attending the Emergency Management Institute resident program courses at FEMA's National Emergency Training Center will be asked to complete a course evaluation form. EMI staff and management will use the information to identify problems with course materials and evaluate the quality of the course delivery, facilities, and instructors. The data received will enable them to recommend changes in course materials, student selection criteria, training experience and classroom environment.

Affected Public: State, Local or Tribal Government, Individuals or households, and Federal Government.

Estimated Total Annual Burden Hours: 667.

FEMA Forms | Number of respondents (A) | Frequency ofresponse (B) | Hours per response (C) | Annual Burden Hours (A × B × C)
95-41 | 4,000 | Annually | * 10 | 667
Total |  |  |  | 667
* Minutes.

Estimated Cost: $12,850, which includes operational and user costs.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Laurie Wivell, National Emergency Training Center, Training Division (301) 447-1216 for additional information. You may contact Ms. Anderson for copies of the proposed collection of information at telephone number (202) 646-2625 or facsimile number (202) 646-3347 or email muriel.anderson@fema.gov.

Dated: July 3, 2002.
Reginald Trujillo,
Branch Chief, Program Services & Systems Branch, Facilities Management & Service Division, Administration and Resource Planning Directorate.

[FR Doc. 02-17770 Filed 7-15-02; 8:45 am]

BILLING CODE 6718-01-P